DEPARTMENT OF THE TREASURY

Submission for OMB Review; Comment Request

June 7, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 13, 2005, to be assured of consideration.

Alcohol and Tobacco Tax and Trade Bureau (TTB)

OMB Number: New.

Form Number: None.

Type of Review: New collection.

Title: Questionnaire—Methanol Levels and Good Manufacturing Practices for Fruit Brandies.

Description: TTB, in conjunction with FDA, is reviewing the currently permitted level of methanol in fruit brandies. Information is being collected from fruit brandy producers to identify production practices that minimize levels of methanol in fruit brandies.

Respondents: Business of other for-profit.

Estimated Number of Respondents: 43.

Estimated Burden Hours Per Respondent: 2 hours.

Frequency of Response: Other (one time).

Estimated Total Recordkeeping Burden: 92 hours.

Clearance Officer: William H. Foster, (202) 927-8210, Alcohol and Tobacco Tax and Trade Bureau, Room 200 East, 1310 G Street, NW., Washington, DC 20005.

OMB Reviewer: Alexander T. Hunt, (202) 395-7316, Office of Management and Budget, Room 10235, New Executive Office Building, Washington, DC 20503.

Lois K. Holland,
Treasury PRA Clearance Officer.

[FR Doc. 05-11656 Filed 6-10-05; 8:45 am]

BILLING CODE 4810-31-P